FEDERAL TRADE COMMISSION

Granting of Request for Early Termination of the Waiting Period Under the Premerger Notification Rules

Section 7A of the Clayton Act, 15 U.S.C. 18a, as added by Title II of the Hart-Scott-Rodino Antitrust Improvement Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
TRANSACTIONS GRANTED EARLY TERMINATION—07/03/2006
20051218 | Kaba Holding AG | Masco Corporation | Computerized Security Systems Inc.
|  |  | Saflok EMEA NV.
TRANSACTIONS GRANTED EARLY TERMINATION—07/05/2006
20061096 | Quantum Corporation | Advanced Digital Information Corporation | Advanced Digital Information Corporation.
20061149 | Lindsay Goldberg & Bessemer L.P | John Rincon | Intermex Wire Transfer, LLC.
20061264 | Allianz Aktiengesellschaft | MAN Aktiengesellschaft | MAN Roland Druckmaschinen Aktiengesellschaft.
20061270 | ADC Telecommunications, Inc | Andrew Corporation | Andrew Corporation.
20061274 | Ascendia Brands, Inc | Donata Holding GmbH & Co. KG | Coty Inc.
20061276 | ValueAct Capital Master Fund, L.P | Valeant Pharmaceuticals International | Valeant Pharmaceuticals International.
20061281 | Fremont Partners III, L.P | Nautic Partners V, LP | IPS Intermediate Holdings Corporation.
20061289 | ACO Holding LP | Acosta, Inc | Acosta, Inc.
20061301 | ArcLight Energy Partners Fund III, L.P | Ralph R. Bell | Cincoi Pipe and Supply, Ltd.
20061302 | ArcLight Energy Partners Fund III, L.P | John H. Causey | Cincoi Pipe and Supply, Ltd.
20061303 | Hospital Partners of America, Inc | CHRISTUS Health | CHRISTUS Health Gulf Coast.
20061305 | Platinum Equity Capital Partners, L.P | Textron Inc | Avdel Cherry LLC.
|  |  | Burkland Textron Inc.
|  |  | Camcar LLC.
|  |  | Cherry Aerospace LLC.
|  |  | Elco Fastening Systems LLC.
|  |  | Flexalloy Inc.
|  |  | Ring Screw LLC.
|  |  | TFS Fastening Systems LLC.
|  |  | Wolverine Metal Specialties, Inc.
20061312 | Atlantic Equity Partners IV, L.P | BHM Technologies, LLC | BHM Technologies, LLC.
20061320 | Level 3 Communications, Inc | Looking Glass Networks Holding Co., Inc | Looking Glass Networks Holding Co., Inc.
20061322 | Apollo Investment Fund VI, L.P | International Paper Company | Bucksport Leasing Company.
|  |  | Nextier Solutions Corporation.
20061324 | Macquarie Utilities Inc | Kelda plc | Aquarion Company.
20061326 | Crestview Capital Partners, L.P | Friedman, Billings, Ramsey Group, Inc | FBR Capital Markets Corporation.
20061329 | Harbinger Capital Partners Offsore Fund I, Ltd | Crescent Jewelers | Crescent Jewelers.
20061333 | Sandler Capital Partners V, L.P | Premedia Inc | Premedia Special Interest Publications, Inc.
20061337 | UBS AG | ABN AMRO Holding N.V | ABN AMRO Clearing and Management Services, Inc.
|  |  | ABN AMRO Commodity Finance, Inc.
|  |  | ABN AMRO Incorporated.
|  |  | ABN AMRO Sage Corporation.
TRANSACTIONS GRANTED EARLY TERMINATION—07/06/2006
20061335 | TPG Partners V. L.P | Field Holdings, Inc | Field Container Company, L.P.
TRANSACTIONS GRANTED EARLY TERMINATION—07/07/2006
20060987 | Hologic, Inc | Suros Surgical Systems, Inc | suros Surgical Systems, Inc.
20061241 | National Grid plc | KeySpan Corporation | KeySpan Corporation.
20061297 | Schneider Electric SA | Invensys plc | Barber-Colman Holdings Corp.
TRANSACTIONS GRANTED EARLY TERMINATION—07/10/2006
20061192 | Arthur L. Allen | Lowell L. Sando And Patricia A. Sando | Diversified Software Systems, Inc.
20061249 | Healthways, Inc | LifeMasters Supported SelfCare, Inc | LifeMasters Supported SelfCare, Inc.
200611290 | FedEx Corporation | Watkins Associated Industries, Inc. | Freight Terminals, Inc.
|  |  | TP-01, LLC.
|  |  | TP-02, LLC.
|  |  | Watkins Canada Express Inc.
|  |  | Watkins Equipment & Terminals Canada Inc.
|  |  | Watkins International, Inc.
|  |  | Watkins Motor Equipment, Inc.
|  |  | Watkins Motor Lines, Inc.
|  |  | Watkins Trailer Company.
|  |  | WML-99 Trailer Company.
|  |  | WML Trailers.
|  |  | WW Two Trailer Company.
TRANSACTIONS GRANTED EARLY TERMINATION—07/11/2006
20060063 | INCO Limited | Falconbridge Limited | Falconbridge Limited.
20061291 | EPCOR Power L.P | EPCOR Utilities Inc | EPCOR Energy (U.S.), G.P.
20061331 | The Southern Company | Progress Energy, Inc | Rowan County Power, LLC.
20061336 | Carlyle Partners IV, L.P | Brentwood Associates Private Equity III, L.P | OTC Holdings, Inc.
20061342 | Fidelity Sedgwick Holdings, Inc | Capital Partners Holdings II-A, L.P | Security Capital Corporation.
20061346 | Xerox Corporation | Sharon Duker | Amici LLC.
20061347 | Wells Fargo & Company | Reilly Mortgage Group, Inc | Reilly Mortgage Group, Inc.
20061351 | United Business Media plc | RFE Investment Partners VI, L.P | CBM Holdings, Inc.
20061358 | United Group Limited | Michael Silver | Equis Corporation.
20061359 | Cofra Holding AG | Pent Technologies, Inc | Pent Technologies, Inc.
20061360 | First Resource Federal Credit Union | United Federal Credit Union | United Federal Credit Union.
20061361 | Koch Industries, Inc. | Insulair, Inc | Insulair, Inc.
20061370 | Electronic Arts Inc | Mythic Entertainment, Inc | Mythic Entertainment, Inc.
20061373 | Veolia Environment S.A | SuperShuttle International, Inc | SuperShuttle International, Inc.
20061375 | Lehman Brothers Holdings Inc | Campus Door, Inc | Campus Door, Inc.
20061386 | Phelps Dodge Corporation | Inco Limited | Inco Limited.
TRANSACTIONS GRANTED EARLY TERMINATION—07/12/2006
20061330 | Charterhouse Dragon I S.A | Financiere F.L | Compagnie de Fives-Lille.
20061334 | Group 1 Automaotive, Inc | Frederick E. Hitchcock, Jr | Anaheim Imports, Inc.
20061340 | Ares Corporate Opportunities Fund II, L.P | WCA Waste Corporation | WCA Waste Corporation.
20061341 | Morgan Stanley | TransMontaigne Inc | TransMontaigne Inc.
20061365 | FS Equity Partners V, L.P | Mattress Giant Holding Corporation | Mattress Giant Holding Corporation.
TRANSACTIONS GRANTED EARLY TERMINATION—07/13/2006
20061309 | Ronald O. Perelman | Rentokil Initial plc | Initial Security, LLC.
|  |  | Rentokil Inc.—Security Services.
20061339 | D.E. Shaw Composite International Fund | Orkla ASA | Elkem Metals Company-Alloy L.P.
|  |  | Elkem Metals, Inc.
20061367 | Magellan Health Services, Inc | Raju Mantena | Icore Healthcare, LLC.
TRANSACTIONS GRANTED EARLY TERMINATION—07/14/2006
20060787 | Berkshire Fund VI, Limited Partnership | John G. Brunner Vi-Jon Laboratories, Inc.
20060788 | Berkshire Fund VI, Limited Parntership | Cumberland Swan Holdings, Inc | Cumberland Swan Holdings, Inc.
20061327 | Hicks, Muse, Tate & Furst Equity Fund V, L.P | Valence Operating Company | ECC Midstream Ltd.
|  |  | Valence Midstream, Ltd.
20061345 | Atlas Copco AB | 2000 Riverside Capital Appreciation Fund, L.P | Beacon Holdings Corporation.
20061353 | CHS Private Equity V, L.P | CGW Southeast Partners IV, L.P | TruckPro Holding Corporation.
20061377 | Clayton, Dubilier & Rice Fund VII, L.P | New Sally Holdings, Inc | New Sally Holdings, Inc.
20061381 | Teachers Insurance and Annuity Association of America | J. Scott Kaspick and Susan Termohlen | Kaspick & Company, LLC.
20061383 | Linsalata Capital Partners Fund V, L.P | Stanton Carpet Corporation | Stanton Carpet Corporation.
20061391 | Genstar Capital Partners IV, L.P | Halpern Denny Fund III, L.P | OnCure Medical Corp.
20061394 | BPC Holding Acquisition Corp | BPC Holding Corporation | BPC Holding Corporation.
20061398 | CHS Private Equity V, L.P | KII Holding Corporation | KII Holding Corporation.
TRANSACTIONS GRANTED EARLY TERMINATION—07/17/2006
20061348 | CHS Private Equity V, L.P | Bruckmann, Rosser, Sherrill & Co., L.P | Penhall International Corp.
20061366 | Sterling Group Partners II, L.P | CSTI Holdings, LLC | CST Industries, Inc.
20061384 | Holcim Ltd | U.S. Equity Partners II (U.S. Parallel), L.P | Meyer Material Holding Co., Inc.
20061385 | Lion Capital Fund I, L.P | J.W. Childs Equity Partners II, L.P | RSA Holdings Corp.
20061389 | AstraZeneca plc | Abbott Laboratories | Abbott Pharmaceuticals PR Ltd.
TRANSACTIONS GRANTED EARLY TERMINATION—07/17/2006
20060784 | Linde AG | The BOC Group plc | The BOC Group plc
TRANSACTIONS GRANTED EARLY TERMINATION—07/18/2006
20061378 | Walgreen Co | Medmark Holdings Inc | Medmark Holdings Inc.
20061393 | Glen A. Taylor | Antonio Accornero | CPI Card Group—Colorado, Inc.
|  |  | CPI Card Group—Nevada, Inc.
|  |  | CPI Holding Co.,
|  |  | Reno Plastics, Inc.
|  |  | Winner Properties, LLC.
20061402 | Harvest Partners IV, L.P | Whitney V, L.P | Encanto Restaurants, Inc.
20061405 | FS Equity Partners V, L.P | Savers, Inc | Savers, Inc.
20061406 | Insurance Servies Office, Inc | Lynette Childs Loveland | Xactware, Inc.
TRANSACTIONS GRANTED EARLY TERMINATION—07/19/2006
20061343 | Powerwave Technologies, Inc | Filtronic, plc | Filtronic Comtek (UK) Limited.
|  |  | Filtronic (Overseas Holdings) Limited.
20061374 | The Home Depot, Inc | Henry J. Hinman, Jr. and Ellen G. Hinman | Forest Products Supply, Inc.
20061412 | The Procter & Gamble Company | ARYx Therapeutics, Inc | ARYx Therapeutics, Inc.
TRANSACTIONS GRANTED EARLY TERMINATION—07/20/2006
20061307 | Duke Energy Corporation | Dynergy, Inc | Dynergy Midwest Generation, Inc.
|  |  | Dynergy Operating Company.
|  |  | Dynergy Power Marketing, Inc.
|  |  | Rockingham Power, L.L.C.
20061356 | Everett R. Dobson Irrevocable Family Trust | Faramarz Attar | Highland Cellular, LLC.
TRANSACTIONS GRANTED EARLY TERMINATION—07/21/2006
20061315 | TC Holdings Corp | Michigan Transco Holdings, L.P | Michigan Transco Holdings, L.P.
20061316 | Expro International Group PLC | FR IX Offshore L.P | Power Well Service Holdings, LP.
|  |  | Power Well Services, Inc.
20061368 | Chesapeake Energy Corporation | Gene D. Yost and Sara Yost | Diamond Y Enterprises, Inc.
|  |  | Gene D. Yost & Son, Inc.
20061369 | Chesapeake Energy Corporation | Duane Yost and Judy Yost | Diamond Y Enterprises, Inc.
|  |  | Gene D. Yost & Son, Inc.
20061407 | Bunker Hill Capital, L.P | Russell W. Kuhn | California Family Health, Inc.
20061408 | Bunker Hill Capital, L.P | Larry R. Gury | California Family Health, Inc.
20061416 | Li & Fung Limited | Rosetti Handbags & Accessories Ltd | Rosetti Handbags & Accessories, Ltd.
20061417 | Wynnchurch Capital Partners II, L.P | SafeWorks, LLC | SafeWorks, LLC.
20061418 | Mr. Ronald P. Mathison | Veritas DGC, Inc | Veritas DGC Land, Inc.
|  |  | Veritas DGC Ltd.
|  |  | Veritas Energy Services Partnership.
20061420 | Voting Shares Trust | Newton Holding, LLC | Gurwitch Products, L.L.C.
20061421 | Richard M. DeVos | Newton Holding, LLC | Gurwitch Products, L.L.C.
20061424 | Koninklijke KPN N.V | iBasis, Inc | iBasis, Inc.
20061430 | Stone Arcade Acquisition Corporation | International Paper Company | International Paper Company.
20061433 | Lindsay Goldberg & Bessemer II, LP | Brock Speciality Services, Ltd | Brock Speciality Services, Ltd.
20061439 | TAC Acquisition Corp | R. John Chapel | Aviel Systems, Inc.

For Further Information Contact: Sandra M. Peay, Contact Representative, or Renee Hallman, Contact Representative, Federal Trade Commission, Premerger Notification Office, Bureau of Competition, Room H-303, Washington, DC 20580, (202) 326-3100.

By Direction of the Commission.
Donald S. Clark,
Secretary.

[FR Doc. 06-6604 Filed 7-31-06; 8:45 am]

BILLING CODE 6750-01-M